DEPARTMENT OF ENERGY

Federal Energy Regulatory Commission

[Docket No. CP15-17-006]

Sabal Trail Transmission, LLC; Notice of Request for Extension of Time

Take notice that on March 28, 2025, Sabal Trail Transmission, LLC (Sabal Trail) requested that the Commission grant an extension of time, until May 1, 2027, to construct and place into service Phase III of its Sabal Trail Project (Project) located in Dougherty County, Georgia and Suwannee County, Florida, as authorized in the Order Issuing Certificates and Approving Abandonment (Order).¹ The Order required Sabal Trail to complete construction of Phase III of the Project and make it available for service by May 1, 2021.

¹ Florida Southeast Connection, LLC, et al., 154 FERC ¶ 61,080 (2016) (February 2 Order), order on reh'g, 156 FERC ¶ 61,160 (2016), order on remand, 162 FERC ¶ 61,233 (2018).

On June 15, 2021, the Commission granted Sabal Trail an extension of time, until May 1, 2023, to complete construction of Phase III of the Project and make it available for service.² The Commission has subsequently granted one additional extension of time, making the current date for the Phase III facilities to be constructed and placed into service May 1, 2025.³

² Sabal Trail Transmission, LLC, Docket No. CP15-17-000 (Jun. 15, 2021) (delegated order).

³ Sabal Trail Transmission, LLC, Docket No. CP15-17-000 (May 3, 2023) (delegated order).

Sabal Trail states that it has constructed and placed into service the first two phases of the Project, comprising 999,000 dekatherms per day (Dth/d) of capacity, and that over 94 percent of pipeline capacity has been subscribed under long-term firm contracts. The remaining construction, Phase III of the Project, involves the installation of two compressor units, one each at two existing compressor stations, both of which are located at sites owned in fee by Sabal Trail. Sabal Trail requests a two-year extension, until May 1, 2027, to complete the necessary commercialization and construction of the final portion of the Project.

This notice establishes a 15-calendar day intervention and comment period deadline. Any person wishing to comment on Sabal Trail's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act (NEPA).⁷ At the time a pipeline requests an extension of time, orders on certificates of public convenience and necessity are final and the Commission will not re-litigate their issuance.⁸ The Director of the Office of Energy Projects, or his or her designee, will act on all of those extension requests that are uncontested.

⁴ Contested proceedings are those where an intervenor disputes any material issue of the filing. 18 CFR 385.2201(c)(1).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment Date: 5:00 p.m. Eastern Time on April 17, 2025.

Dated: April 2, 2025.
Debbie-Anne A. Reese,
Secretary.

[FR Doc. 2025-06019 Filed 4-7-25; 8:45 am]

BILLING CODE 6717-01-P